DEPARTMENT OF HEALTH AND HUMAN SERVICES

Administration for Children and Families

Proposed Information Collection Activity; Comment Request

Title: Goal-Oriented Adult Learning in Self-Sufficiency Study.

OMB No.: New Collection.

Description: The Administration for Children and Families (ACF) is proposing a data collection activity as part of the Goal-Oriented Adult Learning in Self-Sufficiency (GOALS) study. The purpose of the GOALS project is to address the nexus between the growing knowledge base in the psychological sciences and long-standing approaches to self-sufficiency programs targeted to adults and young adults. The project will explore the programmatic implications of existing research on psychological processes associated with goal-directed behaviors, including socio-emotional regulation and cognitive skills, executive functioning, and related areas. The project will synthesize current research on these topics; address how insights gained from research can be used to promote economic advancement among low-income populations, identify promising strategies, or strengthen underlying skills in these areas; and inform measurement of changes and developments in skill acquisition.

The proposed information collection activity consists of exploratory calls with program directors and administrators, semi-structured interviews with key program staff and community partner organization staff, and focus group discussions with program participants. ACF seeks to gain an in-depth, systematic understanding of program administration and implementation, service delivery and operation, outputs and outcomes, and identify promising practices and other areas for further study.

Respondents: Key program directors and administrators, program staff and community partner organization staff, and program participants at selected program sites.

Annual Burden Estimates
Instrument | Total Number of Respondents | Annual Number of Respondents | Number of Responses per Respondent | Average Burden Hours per Response | Annual Burden Hours
Exploratory telephone call semi-structured interview—program directors and administrators | 24 | 12 | 1 | 1 | 12
Site visit semi-structured interview—program staff and community partner organization staff | 180 | 90 | 1 | 1.25 | 113
Site visit group discussion—program participants | 84 | 42 | 1 | 1.25 | 53
Estimated Total Annual Burden Hours |  |  |  |  | 178

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-16073 Filed 6-30-15; 8:45 am]

BILLING CODE 4184-01-P